DEPARTMENT OF TRANSPORTATION

Federal Highway Administration

23 CFR Part 655

RIN 2125-AE87

National Standards for Traffic Control Devices; Manual on Uniform Traffic Control Devices for Streets and Highways; Corrections

AGENCY: Federal Highway Administration (FHWA), DOT.

ACTION: Corrections to the final amendments to the Manual on Uniform Traffic Control Devices.

SUMMARY: This document incorporates by reference into the Code of Federal Regulations errata corrections to the Manual on Uniform Traffic Control Devices (MUTCD). The MUTCD is incorporated by reference in the regulations on traffic control devices on Federal-aid and other streets and highways and recognized as the national standard for traffic control on all public roads. These editorial corrections affect the MUTCD in its entirety. These editorial corrections are issued to help improve the readability of the MUTCD, to provide clarification and consistency, and to correct the grammatical, mathematical, and typographical errors. Since the MUTCD is used by all State and local departments of transportation when installing traffic signs, traffic signals, and pavement markings on all roads open to public travel, it is very important that a correct document is available to them.

DATES: The final rule is effective on July 26, 2001. Incorporation by reference of the publication listed in this regulation is approved by the Director of the Office of the Federal Register as of July 26, 2001.

FOR FURTHER INFORMATION CONTACT: Mr. Ernest Huckaby, Office of Transportation Operations, Room 3408, (202) 366-9064, or Mr. Raymond Cuprill, Office of the Chief Counsel, Room 4230, (202) 366-0791, U.S. Department of Transportation, Federal Highway Administration, 400 Seventh Street, SW., Washington, DC 20590.

SUPPLEMENTARY INFORMATION:

Electronic Access

An electronic copy of this action may be downloaded using a modem and suitable communications software from the Government Printing Office's Electronic Bulletin Board Service at (202) 512-1661. Internet users may reach the Office of the Federal Register's home page at: http://www.nara.gov/fedreg and the Government Printing Office's database at: http://www.access.gpo.gov/nara.

Background

A number of editorial corrections have been identified since the 2000 Millennium Edition of the MUTCD was incorporated by reference on December 18, 2000, at 65 FR 78923. The general scope of these editorial corrections is being provided to the public in this preamble. All of the editorial corrections have been included in the MUTCD text and the corrected MUTCD text is available on the MUTCD Internet site (http://mutcd.fhwa.dot.gov). Furthermore, a listing of every errata item is available on this Internet site.

The FHWA believes good cause exists to publish this rule without prior notice and opportunity for public comment. In addition, the FHWA believes good cause exists for making this rule effective immediately and that seeking public comment is unnecessary. The entire MUTCD text has been through a public comment process and those comments are reflected in the current text of the MUTCD. The FHWA believes that it is important to make these errata changes available as soon as possible as motorists, pedestrians, and bicyclists depend on correct traffic control devices for safe travel on our Nation's highways.

Additionally, State and local departments of transportation use the MUTCD daily as they determine when and where to install traffic signs, traffic signals, and pavement markings. Since the MUTCD is used by all State and local departments of transportation when installing traffic signs, traffic signals, and pavement markings on all roads open to public travel, it is critical to the government agencies, other users of the MUTCD, and the traveling public that a correct document is available to ensure the safe and efficient operation on our highways. Furthermore, all of these changes are minor and are not substantive in nature. Therefore, the FHWA believes that good cause exists to make this rule effective immediately upon publication.

Discussion

The FHWA discovered several errors in the MUTCD after the final rule document was published on December 18, 2000. The FHWA received many comments about these errors after publication of the final rule and after commenters viewed the MUTCD. These errors were not substantive in nature, and the FHWA has been able to correct most of them by way of “pen and ink” changes to provide text clarification and consistency, and to correct the grammatical, mathematical, and typographical errors. Examples of the errors that were corrected include misspelling of words, the removal of the comma between the month and year of a date, capitalizing the word “Nation” when it refers to the United States, the punctuation of items in lists, placing the sign number after the sign name, and before the word sign, and correcting the names of reference documents.

Additionally, in the final rule published on December 18, 2000, the FHWA indicated 288 technical changes relating to the MUTCD based on eight notices of proposed amendments and public comment. Fifteen of the technical changes indicated in the Federal Register were not correctly made in the MUTCD text. The following are those technical changes.

1. In Section 1A.05 Maintenance of Traffic Control Devices, under GUIDANCE, the first two paragraphs concerning the maintenance of traffic control devices were inadvertently left out of the MUTCD text in the final rule published on December 18, 2000, at 65 FR 78923. These two paragraphs go before the existing paragraphs. It is very important to give guidance to all jurisdictions on maintaining traffic control devices so that road users may safely use the Nation's highways. Paragraph 1 should read, “Functional maintenance of traffic control devices should be used to determine if certain devices need to be changed to meet current traffic conditions.” Paragraph 2 should read, “Physical maintenance of traffic control devices should be performed to ensure that legibility is retained, that the device is visible, and that it functions properly in relation to other traffic control devices in the vicinity.” These two paragraphs were in the notice of proposed amendment published on December 30, 1999, at 64 FR 73612, 73619.

2. In Item 12 of the final rule, published on December 18, 2000, at 65 FR 78923, in Section 1A.14 Abbreviations Used on Traffic Control Devices, the FHWA indicated that the statement “When abbreviations are needed for traffic control devices, the abbreviations shown in Table 1A-1 shall be used” shall be a STANDARD. Inadvertently, the statement was published as an OPTION in the text of the MUTCD even though it was a STANDARD in the notice of proposed amendment published on December 30, 1999, at 64 FR 73612. The text should read “STANDARD: When abbreviations are needed for traffic control devices, the abbreviations shown in Table 1A-1 shall be used.”

3. In Section 2A.15 Sign Borders, in the notice of proposed amendment, published on June 11, 1998, at 63 FR 31950, some of the GUIDANCE text was inadvertently omitted from the MUTCD text published on December 18, 2000, at 65 FR 78923. The FHWA did not intend to delete this text and did not discuss deleting it in any of the Federal Register notices. The last sentence of the GUIDANCE should read, “Where practicable, the corners of the sign should be rounded to fit the border, except for STOP signs.”

Additionally, the STANDARD text of Section 2A.15 of the notice of proposed amendment, published on June 11, 1998, at 63 FR 31950 was inadvertently modified in the MUTCD text published on in the December 18, 2000, at 65 FR 78923. The FHWA did not intend to modify this STANDARD text and did not discuss modifying it in any of the Federal Register notices. The second sentence of the STANDARD should read, “The corners of the sign shall be rounded, except for STOP signs.”

4. In Item 31 of the final rule published on December 18, 2000, at 65 FR 78923, in Section 2B.13 Night Speed Limit Sign, the OPTION sentence that reads, “A changeable message sign that changes for traffic and ambient conditions may be installed provided that the appropriate speed limit is shown at the proper times” was identified for deletion from Section 2B.13 Night Speed Limit Sign. Inadvertently, this language was not deleted from Section 2B.13 of the final MUTCD text. Therefore, this sentence has been deleted from the OPTION statement of Section 2B.13. In the incorrect text, this sentence was the second item of a two-item list. In deleting this sentence, resulting in only one item remaining in the list, the lead in phrase is superfluous and has been deleted. The statement, “A changeable message sign that changes for traffic and ambient conditions may be installed provided that the appropriate speed limit is shown at the proper times” correctly appears in the MUTCD text in Section 2B.11 Speed Limit Sign.

5. In Section 2C.21 BUMP and DIP Signs (W8-1 and W8-2) of the final rule, published on December 18, 2000, at 65 FR 78923, in the MUTCD text in the second GUIDANCE statement, the phrase, “when centerline striping is provided on a two-lane road” was inadvertently added to the MUTCD text. This phrase should be deleted from the text as the language was never proposed and was inadvertently included in the MUTCD text.

6. In Section 2C.23 Pavement Ends Sign (W8-3), in the notice of proposed amendment published on June 24, 1999, at 63 FR 33806, the FHWA proposed replacing the Pavement Ends symbol sign with a PAVEMENT ENDS word sign. Inadvertently, the final rule published on December 18, 2000, at 65 FR 78923 did not contain this change. The FHWA did not intend to omit this in the final rule. However, the MUTCD text was changed appropriately. As stated in the notice of proposed amendment published on June 24, 1999, at 64 FR 33806, the word message replaces the symbol sign and a 10-year compliance period is provided so that State and local agencies can replace their existing symbol signs with word message signs. Like the December 18, 2000, MUTCD, this change went into effect on January 17, 2001, for all new installations.

7. In Section 2C.30, Lane Ends Sign (W9-1 and W9-2), in the notice of proposed amendment published on June 24, 1999, at 64 FR 33806, the FHWA proposed changing the name of the Lane Reduction Transition Signs to Lane Ends signs. The change was made in the title of Section 2C.30 in the final rule published on December 18, 2000, at 65 FR 78923; however, the FHWA inadvertently left out the name change when referring to the W4-2 sign in the first sentence of the first OPTION paragraph in this section. This sentence now reads, “The RIGHT (LEFT) LANE ENDS (W9-1) sign may be used in advance of the LANE ENDS (W4-2) sign or the LANE ENDS MERGE LEFT (RIGHT) (W9-2) sign as additional warning or to emphasize that the traffic lane is ending and that a merging maneuver will be required.”

8. In Section 2E.28, Interchange Exit Numbering, paragraph 2 (incorrectly labeled as Section 2E.29 in the final rule published on December 18, 2000, at 65 FR 78923) the FHWA inadvertently included conflicting language as to vertical dimension of the exit number sign panel. In Item 83 of the final rule, the FHWA indicated correctly that it decided to adopt the proposed amendment to Section 2E.28, paragraph 2. The amendment proposed to increase the vertical dimension of the exit number sign panel from 600 mm (24 inches) to 750 mm (30 inches). In direct conflict to this statement, the FHWA indicated in Item 124 of the final rule that the vertical dimension of the exit number panel would not be increased from 600 mm (24 inches) to 750 mm (30 inches). Unfortunately, Item 124 was incorrectly included in the preamble language to the final rule as the FHWA's intent is to adopt the change because it improves the visibility of critical sign information for directing the road users to their destinations. The FHWA's intent to adopt this change is evidenced by the fact that the final MUTCD text reflects this decision and contained the proposed amended measurements of 750 mm (30 inches), not the previous standard of 600 mm (24 inches). The MUTCD text correctly reads 750 mm (30 inches) as the vertical dimension of the exit number sign panel.

9. In Section 2E.32, Other Supplemental Guide Signs, paragraph 2, the FHWA proposed changing a STANDARD statement, “No more than one Supplemental Guide sign shall be used on each interchange approach,” to a GUIDANCE statement in both the notice of proposed amendment, published on June 11, 1998, at 63 FR 31950, and in the final rule published on December 18, 2000, at 65 FR 78923. Inadvertently, the FHWA did not include this change from a STANDARD to a GUIDANCE in the final MUTCD text. The corrected sentence is a GUIDANCE statement reading “No more than one Supplemental Guide sign should be used on each interchange approach.” Also, the word “shall” has been changed to “should” to reflect that this is a GUIDANCE.

10. In Part 6 Temporary Traffic Control, in the final rule published on December 18, 2000, at 65 FR 78923, the FHWA indicated that in six sections of Part 6 it was changing a “SUPPORT statement to a STANDARD statement, as the statement is a definition, and definitions are by their very nature STANDARDS.” Inadvertently, this was not done in the following:

a. The first SUPPORT paragraph of Section 6C.07;

b. The first SUPPORT paragraph of Section 6E.01;

c. The first paragraph of the first SUPPORT paragraph of Section 6F.52;

d. The first SUPPORT paragraph of Section 6F.53;

e. The first paragraph of the first SUPPORT paragraph of Section 6F.55; and

f. The first paragraph of the third SUPPORT paragraph of Section 6F.76.

These SUPPORT statements are all changed to accurately reflect that they are STANDARDS.

11. In Section 6F.76 Crash Cushions, in the final rule published on December 18, 2000, at 65 FR 78923, the FHWA indicated that it was changing the seventh paragraph from a STANDARD statement to a GUIDANCE statement to provide more flexibility in the spacing of the shadow vehicle behind the workers and their work vehicles to allow for sufficient space to accomplish the required maintenance. Inadvertently, this change was not reflected in the final MUTCD text. This STANDARD statement is changed to accurately reflect that it is GUIDANCE.

12. In Section 6G.05 Work Outside of Shoulder, in the final rule published on December 18, 2000, at 65 FR 78923, the FHWA indicated that the second GUIDANCE statement would be changed to an OPTION statement. Inadvertently, this was not done in the MUTCD text. This GUIDANCE statement is changed to accurately reflect that it is an OPTION in the MUTCD text. Also, the word “should” has been changed to “may” to reflect that this is an OPTION.

13. In Section 9B.04 Bicycle Lane Signs (R3-16, R3-17), in the final rule published on December 18, 2000, at 65 FR 78923, the FHWA inadvertently included conflicting language as to the proper phase-in period for compliance with the section. In Item 245 of the final rule, the FHWA indicated that it is providing a phase-in compliance period of 5 years after the effective date of the final rule. This 5-year phase-in period is to minimize any impact on the State and local highway agencies. However, in Item 247 of the final rule, in the discussion of FHWA's intent to delete the preferential lane symbol (diamond) for bicycle signs and pavement markings, we inadvertently indicated that the phase-in period for compliance with this requirement was 6 years. This was in error. The correct phase-in period is 5 years as stated in Item 245 of the final rule.

14. In Item 253 of the final rule, published on December 18, 2000, at 65 FR 78923, in the language used to describe the change to Section 9B.15 Bicycle Crossing Warning Sign (W11-1), the FHWA used the word “requiring” when describing the use of a bicycle crossing warning sign. Specifically, the final rule stated that, “In an advance crossing situation, the FHWA is requiring using a crossing sign supplemented with an ‘AHEAD’ or ‘XX FEET’ plaque.” The use of the word “requiring” was in error as this condition is an OPTION not a STANDARD as the language implies. The FHWA's intent was to have this language read as an option as evidenced by the fact that the MUTCD text correctly states the following: “OPTION: A supplemental plaque with the legend AHEAD or XXX METERS (XXX FEET) may be used with the Bicycle Crossing Warning sign.” The use of the words “option” and “may” within the statement clearly indicate that this is not a standard, but rather an option as is the FHWA's intent.

15. In Item 257 of the final rule, published on December 18, 2000, at 65 FR 78923, in Part 9 Traffic Controls for Bicycle Facilities, the FHWA indicated that the title of Figure 9B-2 had been revised by replacing the word “typical” with “example of” and now reads, “Example of Signing for the Beginning and End of a Bicycle Route.” The change was made because the Figure 9B-2 may not be considered a “typical” drawing. Inadvertently, this was not made to the MUTCD text. The change is now added to the Figure 9B-2 of the MUTCD text.

Rulemaking Analysis and Notices

The FHWA's issuance of this rule without prior notice and opportunity for public comment, effective immediately upon publication today in the Federal Register, is based on the good cause exceptions in 5 U.S.C. 553(b)(3)(B) and 553(d)(3). Seeking public comment is impracticable and unnecessary.

The FHWA believes that further opportunity for public comment on these minor non-substantive changes is unnecessary because these errata changes are only minor changes and are not substantive in nature. These changes are to correct the grammatical, mathematical, and typographical errors. Additionally, the MUTCD was published on December 18, 2000, at FR 78923 after several extensive comment periods for the public to comment on each of the ten parts of the MUTCD [62 FR 54598, 62 FR 64324, 63 FR 31950, 64 FR 33802, 64 FR 33806, 64 FR 71358, 64 FR 73606, and 64 FR 73612]. Therefore, because of the minor nature of these errata changes and the previous extensive public comment period provided for each of the MUTCD sections, the FHWA believes that providing prior notice to the public is unnecessary.

For the same reasons stated above, the FHWA has determined that it has good cause to make this document effective immediately upon publication today in the Federal Register. Additionally, because the MUTCD is used by all State and local departments of transportation when installing traffic signs, traffic signals, and pavement markings on all roads open to public travel, it is very important that a correct MUTCD document is available to them immediately.

Executive Order 12866 (Regulatory Planning and Review) and DOT Regulatory Policies and Procedures

The FHWA has determined that this action is not a significant regulatory action within the meaning of Executive Order 12866 or significant within the meaning of the U.S. Department of Transportation regulatory policies and procedures. The FHWA has determined that the economic impact of this rulemaking will be minimal. These errata changes are minor and not substantive in nature and they do not change the meaning in the final rule. The standards and guidance, which these errata affect, provide additional guidance, clarification and optional applications for traffic control devices and were effective on January 17, 2001. The FHWA believes that the uniform application of traffic control devices will greatly improve the traffic operations efficiency and roadway safety. The standards and guidance are also used to create uniformity and to enhance safety and mobility at little additional expense to public agencies or the motoring public. Therefore, a full regulatory evaluation is not required.

Regulatory Flexibility Act

In compliance with the Regulatory Flexibility Act (5 U.S.C. 601-612), the FHWA has evaluated the effects of this action on small entities. This action corrects the grammatical, mathematical, and typographical errors of the standards and guidance on the design and installation of traffic control devices contained in the MUTCD. It further corrects other text that was inadvertently not changed in the MUTCD text but was changed according to the final rule published on December 18, 2000, at 65 FR 78923. The FHWA hereby certifies that these revisions would not have a significant economic impact on a substantial number of small entities.

Unfunded Mandates Reform Act of 1995

This action of correcting the grammatical, mathematical, and typographical errors would not impose unfunded mandates as defined by the Unfunded Mandates Reform Act of 1995 (Public Law 104-4, March 22, 1995, 109 Stat. 48). This action will not result in the expenditure by State, local, and tribal governments, in the aggregate, or by the private sector, of $100 million or more in any one year (2 U.S.C. 1531 et seq.).

Executive Order 13132 (Federalism)

This action has been analyzed in accordance with the principles and criteria contained in Executive Order 13132 dated August 4, 1999, and the FHWA has determined that this action would not have sufficient federalism implications to warrant the preparation of a federalism assessment. This action merely corrects the grammatical, mathematical, and typographical errors of the standards and guidance on the design and installation of traffic control devices contained in the MUTCD. The FHWA has also determined that this action would not preempt any State law or regulation or affect the State's ability to discharge traditional State government functions.

Executive Order 13175 (Tribal Consultation)

The FHWA has analyzed this action under Executive Order 13175, dated November 6, 2000, and believes that it would not have substantial direct effects on one or more Indian tribes; will not impose substantial direct compliance costs on Indian tribal governments; and will not preempt tribal law. This action merely corrects the grammatical, mathematical, and typographical errors of the standards and guidance on the design and installation of traffic control devices contained in the MUTCD. Therefore, a tribal summary impact statement is not required.

Executive Order 12372 (Intergovernmental Review)

Catalog of Federal Domestic Assistance Program Number 20.205, Highway Planning and Construction. The regulations implementing Executive Order 12372 regarding intergovernmental consultation on Federal programs and activities apply to this program.

Paperwork Reduction Act

Under the Paperwork Reduction Act of 1995 (PRA) (44 U.S.C. 3501, et seq.), Federal agencies must obtain approval from the Office of Management and Budget (OMB) for each collection of information they conduct, sponsor, or require through regulations. The FHWA has determined that this action does not contain a collection of information requirement for purposes of the PRA.

Executive Order 12988 (Civil Justice Reform)

This action meets applicable standards in Sections 3(a) and 3(b)(2) of Executive Order 12988, Civil Justice Reform, to minimize litigation, to eliminate ambiguity, and to reduce burden.

Executive Order 13045 (Protection of Children)

The FHWA has analyzed this action under Executive Order 13045, Protection of Children from Environmental Health Risks and Safety Risks. This is not an economically significant action and does not concern an environmental risk to health or safety that may disproportionately affect children.

Executive Order 12630 (Taking of Private Property)

This action would not effect a taking of private property or otherwise have taking implications under Executive Order 12630, Governmental Actions and Interference with Constitutionally Protected Property Rights.

National Environmental Policy Act

The agency has analyzed this action for the purpose of the National Environmental Policy Act of 1969 (42 U.S.C. 4321 et seq.) and has determined that it would not have any effect on the quality of the environment.

Regulation Identification Number

A regulation identification number (RIN) is assigned to each regulatory action listed in the Unified Agenda of Federal Regulations. The Regulatory Information Service Center publishes the Unified Agenda in April and October of each year. The RIN contained in the heading of this document can be used to cross reference this action with the Unified Agenda.

List of Subjects in 23 CFR Part 655

Design standards, Grant programs—transportation, Highways and roads, Incorporation by reference, Signs and symbols, Traffic regulations.

Issued on: July 12, 2001.
Christine M. Johnson,
Program Manager, Operations.

The FHWA hereby amends part 655 of chapter I of title 23, Code of Federal Regulations as set forth below:

PART 655—TRAFFIC OPERATIONS

1. The authority citation for part 655 continues to read as follows:

Authority: 23 U.S.C. 101(a), 104, 109(d), 114(a), 217, 315, and 402(a); 23 CFR 1.32; and 49 CFR 1.48(b).

Subpart F—Traffic Control Devices on Federal-Aid and Other Streets and Highways

2. In § 655.601, paragraph (a) is revised to read as follows:

§ 655.601 Purpose.

* * * * *

(a) Manual on Uniform Traffic Control Devices (MUTCD), 2000 Millennium Edition, FHWA, dated December 18, 2000, including Errata No. 1 to MUTCD 2000 Millennium Edition dated June 14, 2001. This publication is incorporated by reference in accordance with 5 U.S.C. 552(a) and 1 CFR part 51 and is on file at the Office of the Federal Register, 800 North Capitol Street, NW., Suite 700, Washington, DC. These documents are available for inspection and copying at the Federal Highway Administration, Room 3408, 400 Seventh Street, SW., Washington, DC 20590, as provided in 49 CFR part 7. The text is also available from the Federal Highway Administration's website at: http://mutcd.fhwa.dot.gov.

* * * * *

[FR Doc. 01-18247 Filed 7-25-01; 8:45 am]

BILLING CODE 4910-22-P